INTERNATIONAL TRADE COMMISSION

[Investigation No. 337-TA-1444]

Certain Nasal Devices and Components Thereof; Notice of a Commission Determination Not To Review an Initial Determination Granting Complainant's Motion For Leave To Amend the Complaint and Notice of Investigation

AGENCY: U.S. International Trade Commission.

ACTION: Notice.

SUMMARY: Notice is hereby given that the U.S. International Trade Commission (“Commission”) has determined not to review an initial determination (“ID”) (Order No. 9) of the presiding administrative law judge (“ALJ”), granting Complainant's motion for leave to amend the complaint and notice of investigation.

FOR FURTHER INFORMATION CONTACT: Jonathan D. Link, Esq., Office of the General Counsel, U.S. International Trade Commission, 500 E Street SW, Washington, DC 20436, telephone (202) 205-3103. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on March 26, 2025, based on a complaint filed by Aardvark Medical Inc. (“Complainant”). 90 FR 13781-82 (Mar. 26, 2025). The complaint, as supplemented, alleges violations of section 337 of the Tariff Act of 1930, as amended, 19 U.S.C. 1337, in the importation into the United States, the sale for importation, or the sale within the United States after importation of certain nasal devices and components thereof by reason of infringement of one or more of claims 1-5, 7-14, and 16-19 of U.S. Patent No. 9,750,856; claims 1-4, 6, 8-12, 14-17, 21-24, 27, and 28 of U.S. Patent No. 11,318,234; 1-3, 6-8, 10-12, 16-18, 21, 22, and 28 of U.S. Patent No. 11,883,009; claims 1-8, 10-15, and 17-22 of U.S. Patent No. 11,883,010; and claims 1-9, 12-21, 23, 24, and 26 of U.S. Patent No. 11,889,995. Id. at 13781. The complaint further alleges that a domestic industry exists. Id. The Commission's notice of investigation named as respondents: Xiamenximier Electronic Commerce Co., Ltd (d/b/a Cenny) and Xia Men Deng Jia E-Commerce Co., Ltd. (d/b/a Ronfnea) of Fujian, China; Chongqing Moffy Innovation Technology Co., Ltd. of Chongqing City, China; Guangdong XINRUNTAO Technology Co., Ltd. and Shenzhen Jun&Liang Media Tech Limited of Shenzhen, China; RhinoSystems, Inc. of Brooklyn, Ohio; and Spa Sciences LP of Port St. Lucie, Florida. Id. The Office of Unfair Import Investigations is not participating in the investigation. Id.

On April 4, 2025, Complainant filed a motion to amend the Complaint and Notice of Investigation (“Motion to Amend”) to substitute and correct the appropriate entity from named Respondent “Spa Sciences LP” to “Michael Todd Beauty LP d/b/a Spa Sciences.” Pursuant to Ground Rule 2.2, Complainant reported that third-party Michael Todd Beauty LP d/b/a Spa Sciences (“MTB”) would “take a position on the Motion as filed.” See Mot. to Amend at 1.

On April 10, 2025, before the opposition to the Motion to Amend was due, the ALJ issued Order No. 7, granting Complainant's Motion to Amend. On April 11, 2025, MTB filed an opposition to Complainant's Motion to Amend. On April 17, 2025, MTB filed a Motion for Reconsideration of Order No. 7.

On May 7, 2025, the Commission determined to review Order No. 7 and remanded Order No. 7 to the ALJ to consider both MTB's Motion for Reconsideration of Order No. 7 and its Opposition to Complainant Aardvark Inc.'s Motion for Leave to Amend the Complaint. See Order No. 7, reviewed by Comm'n Notice (May 7, 20225).

On May 22, 2025, the ALJ issued the subject ID (Order No. 9) granting Complainant's motion for leave to amend the Complaint and Notice of Investigation. See Order No. 9 (May 22, 2025). No petitions for review of the ID were filed.

The Commission has determined not to review the subject ID. The named respondent Spa Sciences LP has been changed to “Michael Todd Beauty LP d/b/a Spa Sciences.”

The Commission vote for this determination took place on June 17, 2025.

The authority for the Commission's determination is contained in section 337 of the Tariff Act of 1930, as amended (19 U.S.C. 1337), and in Part 210 of the Commission's Rules of Practice and Procedure (19 CFR Part 210).

By order of the Commission.
Issued: June 17, 2025.
Sharon Bellamy,
Supervisory and Hearings and Information Officer.

[FR Doc. 2025-11406 Filed 6-20-25; 8:45 am]

BILLING CODE 7020-02-P